ENVIRONMENTAL PROTECTION AGENCY

[EPA-HQ-OECA-2006-0440; FRL-8240-3]

Agency Information Collection Activities: Submission to OMB for Review and Approval; Comment Request: Federal Emissions Guidelines for Existing Municipal Solid Waste Landfills (Renewal); EPA ICR Number 1893.04, OMB Control Number 2060-0430; Correction

AGENCY: Environmental Protection Agency (EPA).

ACTION: Notice; correction.

SUMMARY: The Environmental Protection Agency published a document in the Federal Register of October 19, 2006, concerning request for comments on an Information Collection Request for Federal Emissions Guidelines for Existing Municipal Solid Waste Landfills, EPA ICR Number 1893.04, OMB Control Number 2060-0430. The document contained an incorrect EPA Docket ID Number.

FOR FURTHER INFORMATION CONTACT: Zofia Kosim, (202) 564-8733.

Correction

In the Federal Register of October 19, 2006, in FR Doc. E6-17448, on page 61768, at the bottom of the third column, correct the title to read: Agency Information Collection Activities: Submission to OMB for Review and Approval; Comment Request: Federal Emissions Guidelines for Existing Municipal Solid Waste Landfills (Renewal); EPA ICR Number 1893.04, OMB Control Number 2060-0430.

In the Federal Register of October 19, 2006, in FR Doc. E6-17448, on page 61769, at the top of the first column, correct the first paragraph of the “Addresses” caption to read:

ADDRESSES: Submit your comments, referencing docket ID number EPA-HQ-OECA-2006-0440, to (1) EPA online using www.regulations.gov (our preferred method) or by e-mail to docket.oeca@epa.gov, or by mail to: EPA Docket Center (EPA/DC), Environmental Protection Agency, Enforcement and Compliance Docket and Information center, mail code 2201T, 1200 Pennsylvania Avenue, NW., Washington, DC 20460, and (2) OMB by mail to: Office of Information and Regulatory Affairs, Office of Management and Budget (OMB), Attention Desk Officer for EPA, 725 17th Street, NW., Washington, DC 20503.

In the Federal Register of October 19, 2006, in FR Doc. E6-17448, on page 61769, at the top of the second column, correct the second paragraph of the “Supplementary Information” caption to read:

EPA has established a public docket for this ICR under docket ID number EPA-HQ-OECA-2006-0440, which is available for online viewing at http:// www.regulations.gov, in person viewing at the Enforcement and Compliance Docket in the EPA Docket Center (EPA/ DC), EPA West, Room B102, 1301 Constitution Avenue, NW., Washington, DC. The EPA/DC Public Reading Room is open from 8:30 a.m. to 4:30 p.m., Monday through Friday, excluding legal holidays. The telephone number for the Reading Room is (202) 566-1744, and the telephone number for the Enforcement and Compliance Docket is (202) 566-1927.

In the Federal Register of October 19, 2006, in FR Doc. E6-17448, on page 61769, in the middle of the second column, correct the forth paragraph of the “Supplementary Information” caption to read:

Title: Federal Emissions Guidelines for Existing Municipal Solid Waste Landfills (Renewal).

Dated: October 30, 2006.
Oscar Morales,
Director, Collection Strategies Division.

[FR Doc. E6-18657 Filed 11-3-06; 8:45 am]

BILLING CODE 6560-50-P